DEPARTMENT OF HOMELAND SECURITY

Federal Emergency Management Agency

44 CFR Part 67

[Docket ID FEMA-2008-0020; Internal Agency Docket No. FEMA-B-1041]

Proposed Flood Elevation Determinations

AGENCY: Federal Emergency Management Agency, DHS.

ACTION: Proposed rule.

SUMMARY: Comments are requested on the proposed Base (1 percent annual-chance) Flood Elevations (BFEs) and proposed BFE modifications for the communities listed in the table below. The purpose of this notice is to seek general information and comment regarding the proposed regulatory flood elevations for the reach described by the downstream and upstream locations in the table below. The BFEs and modified BFEs are a part of the floodplain management measures that the community is required either to adopt or show evidence of having in effect in order to qualify or remain qualified for participation in the National Flood Insurance Program (NFIP). In addition, these elevations, once finalized, will be used by insurance agents, and others to calculate appropriate flood insurance premium rates for new buildings and the contents in those buildings.

DATES: Comments are to be submitted on or before June 23, 2009.

ADDRESSES: The corresponding preliminary Flood Insurance Rate Map (FIRM) for the proposed BFEs for each community are available for inspection at the community's map repository. The respective addresses are listed in the table below.

You may submit comments, identified by Docket No. FEMA-B-1041, to William R. Blanton, Jr., Chief, Engineering Management Branch, Mitigation Directorate, Federal Emergency Management Agency, 500 C Street, SW., Washington, DC 20472, (202) 646-3151, or (e-mail) bill.blanton@dhs.gov.

FOR FURTHER INFORMATION CONTACT: William R. Blanton, Jr., Chief, Engineering Management Branch, Mitigation Directorate, Federal Emergency Management Agency, 500 C Street, SW., Washington, DC 20472, (202) 646-3151 or (e-mail) bill.blanton@dhs.gov.

SUPPLEMENTARY INFORMATION: The Federal Emergency Management Agency (FEMA) proposes to make determinations of BFEs and modified BFEs for each community listed below, in accordance with section 110 of the Flood Disaster Protection Act of 1973, 42 U.S.C. 4104, and 44 CFR 67.4(a).

These proposed BFEs and modified BFEs, together with the floodplain management criteria required by 44 CFR 60.3, are the minimum that are required. They should not be construed to mean that the community must change any existing ordinances that are more stringent in their floodplain management requirements. The community may at any time enact stricter requirements of its own, or pursuant to policies established by other Federal, State, or regional entities. These proposed elevations are used to meet the floodplain management requirements of the NFIP and are also used to calculate the appropriate flood insurance premium rates for new buildings built after these elevations are made final, and for the contents in these buildings.

Comments on any aspect of the Flood Insurance Study and FIRM, other than the proposed BFEs, will be considered. A letter acknowledging receipt of any comments will not be sent.

National Environmental Policy Act. This proposed rule is categorically excluded from the requirements of 44 CFR part 10, Environmental Consideration. An environmental impact assessment has not been prepared.

Regulatory Flexibility Act. As flood elevation determinations are not within the scope of the Regulatory Flexibility Act, 5 U.S.C. 601-612, a regulatory flexibility analysis is not required.

Executive Order 12866, Regulatory Planning and Review. This proposed rule is not a significant regulatory action under the criteria of section 3(f) of Executive Order 12866, as amended.

Executive Order 13132, Federalism. This proposed rule involves no policies that have federalism implications under Executive Order 13132.

Executive Order 12988, Civil Justice Reform. This proposed rule meets the applicable standards of Executive Order 12988.

List of Subjects in 44 CFR Part 67

Administrative practice and procedure, Flood insurance, Reporting and recordkeeping requirements.

Accordingly, 44 CFR part 67 is proposed to be amended as follows:

PART 67—[AMENDED]

1. The authority citation for part 67 continues to read as follows:

Authority: 42 U.S.C. 4001 et seq.; Reorganization Plan No. 3 of 1978, 3 CFR, 1978 Comp., p. 329; E.O. 12127, 44 FR 19367, 3 CFR, 1979 Comp., p. 376.

§ 67.4 [Amended]

2. The tables published under the authority of § 67.4 are proposed to be amended as follows:

Flooding source(s) | Location of referenced elevation** | * Elevation in feet (NGVD) + Elevation in feet (NAVD) # Depth in feet above ground ‸ Elevation in meters (MSL): Effective | * Elevation in feet (NGVD) + Elevation in feet (NAVD) # Depth in feet above ground ‸ Elevation in meters (MSL): Modified | Communities affected
Lamar County, Alabama, and Incorporated Areas
Driver Creek | Approximately 3,318 feet upstream of confluence of Luxapallila Creek and Driver Creek | None | +261 | Unincorporated Areas of Lamar County.
| Approximately 3,810 feet upstream of confluence of Luxapallila Creek and Driver Creek | None | +265
* National Geodetic Vertical Datum.
+ North American Vertical Datum.
# Depth in feet above ground.
‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to William R. Blanton, Jr., Chief, Engineering Management Branch, Mitigation Directorate, Federal Emergency Management Agency, 500 C Street SW., Washington, DC 20472.
ADDRESSES
Unincorporated Areas of Lamar County
Maps are available for inspection at 4690 Hwy 17, Vernon, AL 35592.
Marion County, Alabama, and Incorporated Areas
Unnamed Tributary to Reedy Creek | At the confluence of Reedy Creek | None | +458 | Town of Gu-Win.
| Approximately 1,825 feet upstream of the confluence with Reedy Creek | None | +459
* National Geodetic Vertical Datum.
+ North American Vertical Datum.
# Depth in feet above ground.
‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to William R. Blanton, Jr., Chief, Engineering Management Branch, Mitigation Directorate, Federal Emergency Management Agency, 500 C Street SW., Washington, DC 20472.
ADDRESSES
Town of Gu-Win
Maps are available for inspection at 4835 U.S. Hwy 43, Gu-Win, AL 35563.
Lee County, Illinois, and Incorporated Areas
Kyte River | Approximately 1,080 feet west of Thorpe Road | None | +770 | Unincorporated Areas of Lee County.
| Approximately 125 feet west of Illinois Route 251 | None | +771
* National Geodetic Vertical Datum.
+ North American Vertical Datum.
# Depth in feet above ground.
‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to William R. Blanton, Jr., Chief, Engineering Management Branch, Mitigation Directorate, Federal Emergency Management Agency, 500 C Street SW., Washington, DC 20472.
ADDRESSES
Unincorporated Areas of Lee County
Maps are available for inspection at Lee County Zoning Office, Old Lee County Courthouse, Third Floor, 112 E. Second Street, Dixon, IL 61021.
St. John The Baptist Parish, Louisiana, and Incorporated Areas
Lake Lac Des Alemands | Entire shoreline and extending approximately 6,000 feet landward of the entire lake | None | +6-7 | Unincorporated Areas of St. John The Baptist Parish.
| Starting with the Texas and Pacific Railroad and continuing both East and West to the Parish Lines and South to Lake Lac Des Alemands and the Southern Parish line. Also, two small areas North of the railroad are included | None | +3-6
Lake Maurepas | Along the shoreline of Lake Maurepas starting at the Parish Line and continuing along the coastline East to Lake Pontchartrain and extending landward approximately 2,000 feet | None | +9-12 | Unincorporated Areas of St. John The Baptist Parish.
| Covering an area extending West from Interstate 55 North and following the shoreline of Lake Maurepas to the Parish boundary and extending south to approximately Highway 61 | None | +3-13
Lake Pontchartrain | Covering an area extending East from Interstate 55 North to the Western Coast of Lake Pontchartrain and extending North from I-10 to the Parish Boundary on Interstate 55 North | None | +10-13 | Unincorporated Areas of St. John The Baptist Parish.
| Along the shoreline of Lake Pontchartrain starting at the Northern peninsula and continuing south to Interstate 10 and extending landward approximately 6,000 feet | None | +12-17
* National Geodetic Vertical Datum.
+ North American Vertical Datum.
# Depth in feet above ground.
‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to William R. Blanton, Jr., Chief, Engineering Management Branch, Mitigation Directorate, Federal Emergency Management Agency, 500 C Street SW., Washington, DC 20472.
ADDRESSES
Unincorporated Areas of St. John The Baptist Parish
Maps are available for inspection at 1801W. Airline Hwy., La Place, LA 70068.
Wayne County, Michigan, and Incorporated Areas
Apple Run/Horner Drain | Confluence with Sines Drain | None | +688 | Township of Canton.
| Downstream side of Beck Road | None | +689 | Township of Van Buren.
Bakewell Tile Extension Bell Branch | Confluence with Bell Branch | None | +671 | City of Livonia.
| Downstream side of Newburgh Road | None | +672
| Upstream side of Ellen Drive | None | +654 | City of Livonia.
| Downstream side of 5 Mile Road | None | +671
Belleville Lake | Entire shoreline of Belleville Lake | None | +653 | City of Belleville, Township of Van Buren.
Bingell Drain | Upstream side of Hannan Road | None | +662 | Township of Canton.
| Approximately 30 feet upstream of Hannan Road | None | +663
Bird Marsh Drain | Confluence with Day and Cutter Drain | None | +666 | Township of Sumpter.
| Downstream side of Judd Road | None | +676
Blakely Drain | Approximately 575 feet west of Telegraph Road and just south of Pennsylvania Road | None | +610 | Charter Township of Brownstown.
| Approximately 400 feet west of Beech Daly Road and just south of Pennsylvania Road | None | +612
| Just upstream of Pennsylvania Road | None | +615
| Approximately 50 feet upstream of Pennsylvania Road | None | +615
Blakely Drain | Upstream side of King Road | None | +593 | City of Riverview.
| Approximately 300 feet east of Cascade Drive | None | +593
Bradshaw Drain | Upstream side of Oakville-Waltz Road | None | +642 | Township of Sumpter.
| Downstream side of Rawsonville Road | None | +667
Branch No. 1 Mosquito Drain | Confluence with Mosquito Drain | None | +624 | Township of Sumpter.
| Approximately 0.7 mile upstream of Arkona Road | None | +627 | Township of Huron.
Brooks Drain | Confluence with Huron River | None | +616 | Township of Sumpter.
| Downstream side of Haggerty Road | None | +655
Brownstown Creek | Approximately 1500 feet upstream of Gudith Road | None | +599 | Charter Township of Brownstown, City of Woodhaven.
| Approximately 0.7 mile downstream of Sibley Road | None | +615
Brownstown Creek | Approximately 500 feet downstream of Gibraltar Road | +577 | +578 | City of Gibraltar.
| Approximately 700 feet upstream of Gibraltar Road | +577 | +578
Carroll Drain | Confluence with Burnap Drain | None | +631 | Township of Sumpter.
| Downstream side of Martinsville Road | None | +638
Clark-Morey Drain | Confluence with Lords Drain | None | +631 | Township of Sumpter.
| Approximately 200 feet downstream of Arkona Road | None | +645
Day and Cutter Drain | Confluence with Bradshaw Drain | None | +666 | Township of Sumpter.
| Downstream side of Judd Road | None | +674
Deacon Drain | Approximately 75 feet northeast of the intersection of Ethel Street and Outer Drive | None | +583 | City of Detroit.
| Approximately 175 feet northeast of the intersection of Bassett Street and Outer Drive | None | +583
Denton & Branch Drain | Confluence with Apple Run | None | +688 | Township of Van Buren.
| Approximately 1,650 feet upstream of Beck Road | None | +688
Desbrow Drain | Upstream side of Oakville-Waltz Road | None | +625 | Township of Sumpter.
| Downstream side of Judd Road | None | +674
Detroit River | Confluence with Lake Erie | +577 | +578 | Charter Township of Brownstown, City of Detroit, City of Ecorse, City of Gibraltar, City of Grosse Pointe Park, City of River Rouge, City of Wyandotte, Township of Grosse Ile.
| Confluence with Lake St. Clair | +578 | +579
Ecorse Creek | Confluence with Detroit River | +577 | +578 | City of Ecorse, City of Lincoln Park.
| Confluence with North Branch Ecorse Creek and South Branch Ecorse Creek | +577 | +578
Ecorse Creek | Confluence with Detroit River | +577 | +578 | City of Wyandotte.
| Approximately 200 feet downstream of confluence with Sexton-Kilfoil Drain | +577 | +578
Fellows Creek | At confluence with Lower River Rouge | None | +654 | Township of Canton.
| Approximately 175 feet downstream of Canton Center Road | +687 | +688
Frank and Poet Drain | Approximately 1,150 feet downstream of Gibraltar Road | +577 | +578 | City of Gibraltar.
| Approximately 225 feet downstream of Railroad | +577 | +578
Frank and Poet Drain | Approximately 80 feet southeast of Allen Road and Orchard Avenue | None | +601 | City of Southgate.
| Approximately 275 feet southeast of Allen Road and Orchard Avenue | None | +601
Frank and Poet Drain | Upstream side of Eureka Road | +606 | +605 | City of Taylor.
| Downstream side of Inkster Road | +624 | +623
Frenchman Creek | Confluence with Detroit River | +577 | +578 | Township of Grosse Ile.
| Approximately 0.7 mile upstream of Groh Road | +577 | +578
Green Meadow Drain | Confluence with Tonquish Creek | +683 | +684 | Township of Canton.
| Approximately 850 feet upstream of Morton Taylor Road | +687 | +686
Handler Drain | Confluence with Trenton Channel | +577 | +578 | City of Gibraltar, City of Trenton.
| Upstream side of Toledo Avenue | +577 | +578
Head Drain | Downstream side of Bemis Road | None | +670 | Township of Sumpter, Township of Van Buren.
| Downstream side of Lohr Road | None | +684
Huntington Creek | Confluence with Trenton Channel | +577 | +579 | City of Riverview.
| Approximately 1,250 feet downstream of Electric Avenue | +578 | +579
Huntington Creek | Approximately 60 feet east of the intersection of Pennsylvania Avenue and 13th Street | None | +583 | City of Wyandotte.
| Approximately 50 feet east of the intersection of Pennsylvania Avenue and 13th Street | None | +583
Huron River | Confluence with Lake Erie | +577 | +578 | Charter Township of Brownstown.
| Approximately 0.75 mile northwest of the intersection of Jefferson Avenue and Harbin Road | +577 | +578
Huron River | Approximately 1,450 feet southeast of the intersection of Huron River Drive and River Lane | None | +597 | Township of Huron.
| Approximately 1,300 feet southeast of the intersection of Huron River Drive and River Lane | None | +597
Jefferson Ave Diversion | Confluence with Trenton Channel | +577 | +579 | City of Riverview.
| Downstream side of Jefferson Avenue | +578 | +579
Johnson Drain | Approximately 300 feet upstream of Fairbrook | None | +788 | Charter Township of Plymouth, Township of Northville.
| Approximately 0.8 mile upstream of 5 Mile Road | +841 | +840
Johnson Drain Tributary | Confluence with Johnson Drain | None | +811 | Township of Northville.
| Approximately 0.5 mile upstream of 7 Mile Road | None | +857
Jones Drain | Confluence with Huron River | +577 | +578 | Charter Township of Brownstown.
| Downstream side of Main Park Road | +577 | +578
King Drain | Confluence with North Branch Swan Creek | None | +633 | Township of Sumpter.
| Approximately 0.6 mile downstream of Judd Road | None | +637
Lake Erie | Entire shoreline of Lake Erie within Wayne County | +577 | +578 | Charter Township of Brownstown.
Lake St. Clair | Entire shoreline of Lake St. Clair within Wayne County | None | +579 | City of Grosse Pointe Farms, City of Grosse Pointe.
Lake St. Clair | Entire shoreline of Lake St. Clair within Wayne County | +578 | +579 | Village of Grosse Pointe Shores, City of Grosse Pointe Park.
Lamke Drain | Confluence with Bradshaw Drain | None | +647 | Township of Sumpter.
| Downstream side of Sherwood Road | None | +651
Lords Drain | Confluence with Disbrow Drain | None | +628 | Township of Sumpter.
| Downstream side of Sumpter Road | None | +639
Lower River Rouge | Upstream side of Hannan Road | None | +653 | Township of Canton.
| Upstream side of Ridge Road | None | +713
Marsh Creek | Approximately 400 feet south of Van Horn Road | None | +586 | City of Trenton.
| Upstream side of Van Horn Road | None | +586
| Approximately 1400 feet northwest of the intersection of Marian Drive and Longmeadow Drive | None | +589
McClaughrey Drain | Downstream side of Van Born Road | None | +663 | City of Wayne, City of Romulus, Township of Van Buren.
| Downstream side of N I-275 | None | +669
Morrison Drain | Confluence with Silver Creek | +577 | +578 | Charter Township of Brownstown.
| Approximately 700 feet downstream of Woodruff Road | +577 | +578
Mosquito Drain | Upstream side of Clark Road | None | +624 | Township of Huron, Township of Sumpter.
| Downstream side of Haggerty Road | None | +628
Mott Drain | Downstream side of Sheldon Road | None | +672 | Township of Canton.
| Confluence with Lower River Rouge | None | +672
No. 1 Drain | Confluence with North Branch Swan Creek | None | +648 | Township of Sumpter.
| Approximately 110 feet downstream of Willis Road | None | +652
No. 3 Drain | Confluence with North Branch Swan Creek | None | +656 | Township of Sumpter.
| Downstream side of Clay Road | None | +658
North Branch Ecorse Creek | Confluence with Ecorse Creek | +577 | +578 | City of Ecorse, City of Lincoln Park.
| Approximately 1,300 feet downstream of Mill Street | +577 | +578
North Branch Ecorse Creek | Approximately 90 feet downstream of Frank Avenue | None | +591 | City of Melvindale.
| Approximately 500 feet east of Enterprise Drive | None | +594
North Branch Swan Creek (lower) | Downstream side of Clark Road | None | +626 | Township of Huron, Township of Sumpter.
| Downstream side of Judd Road | None | +645
North Branch Swan Creek (upper) | Upstream side of Elwell Road | None | +677 | Township of Sumpter, Township of Van Buren.
| Downstream side of Rawsonville Road | None | +689
Olmstead Drain | Confluence with Smith Creek | None | +587 | City of Flat Rock.
| Downstream side of Olmstead Road | None | +587
Pickering Drain | Confluence with North Branch Swan Creek | None | +632 | Township of Sumpter.
| Upstream side of Haggerty Road | None | +632
River Rouge | Confluence with Detroit River | None | +578 | City of Detroit.
| Approximately 0.5 mile upstream of Jefferson Avenue | None | +578
River Rouge | Confluence with Detroit River | +577 | +578 | City of River Rouge.
| Approximately 0.5 mile upstream of Jefferson Avenue | +577 | +578
Shortcut Canal | Confluence with Detroit River | +577 | +578 | City of River Rouge.
| Confluence with River Rouge | +577 | +578
Silver Creek | Approximately 400 feet downstream of Jefferson Avenue | +577 | +578 | Charter Township of Brownstown, City of Rockwood
| Downstream side of Railroad | +577 | +578
Silver Creek | Approximately 1,300 feet southwest of the intersection of Woodruff Road and Torry Avenue | None | +586 | City of Rockwood.
| Approximately 1,650 feet southwest of the intersection of Woodruff Road and Torry Avenue | None | +586
Sines Drain | Confluence with Lower River Rouge | None | +667 | Township of Canton, Township of Van Buren.
| Downstream side of Mott Road | None | +707
Smith Creek (lower) | Confluence with Silver Creek | +577 | +578 | Charter Township of Brownstown, City of Rockwood.
| Downstream side of Huron River Drive | +577 | +578
Smith Creek (lower) | Upstream side of S I-75 | None | +587 | City of Flat Rock, Charter Township of Brownstown, City of Woodhaven.
| Approximately 875 feet downstream of Telegraph Road | None | +599
Smith Creek (upper) | Upstream side of Beech Daly Road | None | +607 | Charter Township of Brownstown, Township of Huron.
| Upstream side of Inkster Road | None | +616
Smith Drain | Upstream side of Puritan Street | None | +617 | City of Detroit.
| Approximately 160 feet upstream of Puritan Street | None | +617
South Branch Tonquish Creek | Upstream side of Main Street | +707 | +703 | Charter Township of Plymouth, City of Plymouth.
| Downstream of Beck Road | None | +790
Thorofare Canal | Confluence with Trenton Channel | +577 | +578 | Township of Grosse Ile.
| Confluence with Detroit River | +577 | +578
Tonquish Creek | Approximately 300 feet downstream of Holiday Boulevard | None | +660 | Township of Canton, Charter Township of Plymouth, City of Plymouth.
| Downstream side of Territorial Road | None | +770
Tonquish Creek | Approximately 1,100 feet downstream of Wayne Road | None | +636 | City of Livonia.
| Approximately 700 feet downstream of Wayne Road | None | +636
Travis Drain | Confluence with Willow Creek | None | +680 | Township of Canton.
| Downstream side of Sheldon Road | None | +680
Trenton Channel | Confluence with Lake Erie | +577 | +578 | City of Gibraltar, City of Riverview, City of Trenton, City of Wyandotte, Township of Grosse Ile.
| Confluence with Detroit River | +577 | +579
Upper River Rouge | Confluence with River Rouge | None | +617 | City of Detroit, Township of Redford.
| Approximately 1,800 feet upstream of 6 Mile Road | +626 | +625
Weightman and Branch Drain | Confluence with North Branch Swan Creek | None | +638 | Township of Sumpter.
| Approximately 0.5 mile upstream of North Branch Swan Creek | None | +638
Willow Creek | Approximately 1,800 feet upstream of Lotz Road | +668 | +669 | Township of Canton.
| Downstream side of Canton Center Road | +707 | +702
* National Geodetic Vertical Datum.
+ North American Vertical Datum.
# Depth in feet above ground.
‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to William R. Blanton, Jr., Chief, Engineering Management Branch, Mitigation Directorate, Federal Emergency Management Agency, 500 C Street SW., Washington, DC 20472.
ADDRESSES
Charter Township of Brownstown
Maps are available for inspection at 21313 Telegraph Road, Brownstown, MI 48183.
Charter Township of Plymouth
Maps are available for inspection at 9955 North Haggerty Road, Plymouth, MI 48170.
City of Belleville
Maps are available for inspection at 6 Main Street, Belleville, MI 49615.
City of Detroit
Maps are available for inspection at 660 Woodward Avenue, Suite 1800, Detroit, MI 48226.
City of Ecorse
Maps are available for inspection at 3869 West Jefferson Avenue, Ecorse, MI 48229.
City of Flat Rock
Maps are available for inspection at 25500 Gibraltar Road, Flat Rock, MI 48134.
City of Gibraltar
Maps are available for inspection at 29450 Munro Avenue, Gibraltar, MI 48173.
City of Grosse Pointe
Maps are available for inspection at 17147 Maumee Avenue, Grosse Pointe, MI 48230.
City of Grosse Pointe Farms
Maps are available for inspection at 90 Kerby Road, Grosse Pointe Farms, MI 48236.
City of Grosse Pointe Park
Maps are available for inspection at 15115 East Jefferson Avenue, Grosse Pointe Park, MI 48230.
City of Lincoln Park
Maps are available for inspection at 500 Southfield Road, Lincoln Park, MI 48146.
City of Livonia
Maps are available for inspection at 33000 Civic Center Drive, Livonia, MI 48154.
City of Melvindale
Maps are available for inspection at 3100 Oakwood Boulevard, Melvindale, MI 48122.
City of Plymouth
Maps are available for inspection at 201 South Main Street, Plymouth, MI 48170.
City of River Rouge
Maps are available for inspection at 10600 W. Jefferson Avenue, River Rouge, MI 48218.
City of Riverview
Maps are available for inspection at 14100 Civic Park Drive, Riverview, MI 48193.
City of Rockwood
Maps are available for inspection at 32409 Fort Road, Rockwood, MI 48173.
City of Romulus
Maps are available for inspection at 11111 Wayne Road, Romulus, MI 48174.
City of Southgate
Maps are available for inspection at 14400 Dix-Toledo Highway, Southgate, MI 48195.
City of Taylor
Maps are available for inspection at 25605 Northline Road, Taylor, MI 48180.
City of Trenton
Maps are available for inspection at 2674 West Jefferson, Trenton, MI 48183.
City of Wayne
Maps are available for inspection at 4001 South Wayne Road, Wayne, MI 48184.
City of Woodhaven
Maps are available for inspection at 21869 West Road, Woodhaven, MI 48183.
City of Wyandotte
Maps are available for inspection at 3131 Biddle Avenue, Wyandotte, MI 48192.
Township of Canton
Maps are available for inspection at 1150 South Canton Center Road, Canton, MI 48188.
Township of Grosse Ile
Maps are available for inspection at 9601 Groh Road, Grosse Ile, MI 48138.
Township of Huron
Maps are available for inspection at 22950 Huron River Drive, New Boston, MI 48164.
Township of Northville
Maps are available for inspection at 44405 Six Mile Road, Northville, MI 48168.
Township of Redford
Maps are available for inspection at 12200 Beech Daly Road, Redford, MI 48239.
Township of Sumpter
Maps are available for inspection at 23480 Sumpter Road, Belleville, MI 48111.
Township of Van Buren
Maps are available for inspection at 46425 Tyler Road, Belleville, MI 48111.
Village of Grosse Pointe Shores
Maps are available for inspection at 795 Lake Shore Road, Grosse Pointe Shores, MI 48236.

(Catalog of Federal Domestic Assistance No. 97.022, “Flood Insurance.”)

Dated: February 26, 2009.
Michael K. Buckley,
Acting Assistant Administrator, Mitigation Directorate, Department of Homeland Security, Federal Emergency Management Agency.

[FR Doc. E9-6586 Filed 3-24-09; 8:45 am]

BILLING CODE 9110-12-P